DEPARTMENT OF HOMELAND SECURITY

Coast Guard

33 CFR Part 117

[Docket No. USCG-2015-0064]

Drawbridge Operation Regulation; Isle of Wight, Ocean City, MD

AGENCY: Coast Guard, DHS.

ACTION: Notice of temporary deviation from regulations.

SUMMARY: The Coast Guard has issued a temporary deviation from the regulations governing the operation of the Route 50 Bridge, over Isle of Wight (Sinepuxent) Bay, mile 0.5 at Ocean City, MD. The deviation is necessary to accommodate the 10th annual “Island 2 Island” Half Marathon. This deviation allows the Harry Kelly Bridge to remain in the closed position for the duration of the event.

DATES: This deviation is effective 8 a.m. on May 2, 2015, to 10:30 a.m. on May 2, 2015.

ADDRESSES: The docket for this deviation [USCG-2015-0064] is available at http://www.regulations.gov. Type the docket number in the “Search” box and click “Search.” Click on the Open Docket Folder on the line associated with this deviation. You may also visit the Docket Management Facility in Room W12-140, on the ground floor of the Department of Transportation West Building, 1200 New Jersey Avenue SE., Washington, DC 20590, between 9 a.m. and 5 p.m., Monday through Friday, except Federal holidays.

FOR FURTHER INFORMATION CONTACT: If you have questions on this temporary deviation, call or email Kashanda Booker, Bridge Management Specialist, Fifth Coast Guard District, telephone (757) 398-6227, email: Kashanda.l.booker@uscg.mil. If you have questions on reviewing the docket, call Cheryl Collins, Program Manager, Docket Operations, telephone 202-366-9826.

SUPPLEMENTARY INFORMATION: The OC Tri Running Sports, on behalf of Maryland Transportation Authority, has requested a temporary deviation from the current operating regulations of the Route 50 Bridge across Isle Wight (Sinepuxent) Bay mile 0.5, at Ocean City, MD. The event brings in over 4,000 runners and 6,000 spectators. OC Tri Sports is changing the course location to accommodate the request of the community.

The closure has been requested to ensure the safety of the increased volumes of runners and spectators that will be participating in the Half Marathon on May 2, 2015. Under this temporary deviation, the Route 50 Bridge will remain in the closed position from 8 a.m. through 10:30 a.m. Vessels that can pass under the bridge without a bridge opening may do so at all times. The vertical clearance in the closed position is 13 feet above mean high water. The bridge will not be able to open in case of an emergency.

In accordance with 33 CFR 117.35(e), the drawbridge must return to its regular operating schedule immediately at the end of the designated time period. This deviation from the operating regulations is authorized under 33 CFR 117.35.

Dated: February 4, 2015.
James L. Rousseau,
Bridge Program Manager, Fifth Coast Guard District.

[FR Doc. 2015-02970 Filed 2-11-15; 8:45 am]

BILLING CODE 9110-04-P